DEPARTMENT OF ENERGY

Federal Energy Regulatory Commission

[Docket No. Ic24-15-000]

Commission Information Collection Activities (FERC-587) Comment Request; Extension

AGENCY: Federal Energy Regulatory Commission

ACTION: Notice of information collection and request for comments.

SUMMARY: In compliance with the requirements of the Paperwork Reduction Act of 1995 (PRA), the Federal Energy Regulatory Commission (Commission or FERC) is soliciting public comment on the currently approved information collection, FERC-587, Land Description: Public Land States/Non-Public Land States, OMB Control Number 1902-0145, which will be submitted to the Office of Management and Budget (OMB) for review.

DATES: Comments on the collection of information are due August 9, 2024.

ADDRESSES: Send written comments on FERC-587 to OMB through www.reginfo.gov/public/do/PRAMain. Attention: Federal Energy Regulatory Commission Desk Officer. Please identify the OMB Control Number (1902-0145) in the subject line of your comments. Comments should be sent within 30 days of publication of this notice to www.reginfo.gov/public/do/PRAMain.

Please submit copies of your comments to the Commission. You may submit copies of your comments (identified by Docket No. IC24-15-000) by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) Delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Jean Sonneman may be reached by email at DataClearance@FERC.gov, telephone at (202) 502-6362.

SUPPLEMENTARY INFORMATION:

Title: FERC-587, Land Description: Public Land States/Non-Public Land States.

OMB Control No.: 1902-0145.

Type of Request: Three-year extension of the FERC-587 information collection requirements with no changes to the current reporting requirements.

Abstract: Section 24 of the Federal Power Act (FPA) ¹ requires the Commission to conduct this collection of information, which pertains to applications proposing hydropower projects, or changes to existing hydropower projects, within “lands of the United States.” FERC Form 587 ² consolidates the required information, including a description of the applicable U.S. lands and identification of hydropower project boundary maps associated with the applicable U.S. lands. An applicant must send FERC Form 587 both to the Commission and to the Bureau of Land Management (BLM) state office where the project is located. The information consolidated in FERC Form 587 facilitates the reservation of U.S. lands as hydropower sites and the withdrawal of such lands from other uses.

¹ 16 U.S.C. 818.

² The form can be viewed at: https://cms.ferc.gov/media/ferc-587.

Type of Respondents: Applicants proposing hydropower projects, or changes to existing hydropower projects, within lands of the United States.

Estimate of Annual Burden: ³ The Commission estimates the annual public reporting burden for the information collection as shown below:

³ “Burden” is the total time, effort, or financial resources expended by persons to generate, maintain, retain, or disclose or provide information to or for a Federal agency. For further explanation of what is included in the information collection burden, refer to 5 CFR 1320.3.

A. Number of respondents | B. Annual estimated number of responses per respondent | C. Annual estimated number of responses | D. Average burden hours & cost ⁴ per response | E. Total estimated burden hours & total estimated cost | F. Average annual cost per respondent ($)
|  | (column A × column B) |  | (column C × column D) | (column E ÷ column A)
70 | 1 | 70 | 1 hour; $100.00 | 70 hours; $7,000.00 | $100.00

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ The Commission staff estimates that the average respondent for FERC-587 is similarly situated to the Commission, in terms of salary plus benefits. Based on FERC's 2024 annual average of $207,786 (for salary plus benefits), the average hourly cost per full time equivalent is $100/hour.

Dated: July 2, 2024.
Debbie-Anne A. Reese,
Acting Secretary.

[FR Doc. 2024-15075 Filed 7-9-24; 8:45 am]

BILLING CODE 6717-01-P